DEPARTMENT OF LABOR

Employment and Training Administration

[TA-W-65,346]

Leggett and Platt, Inc. Hanover Township, PA; Notice of Termination of Investigation

Pursuant to Section 221 of the Trade Act of 1974, as amended, an investigation was initiated on February 23, 2009 in response to a worker petition filed on behalf of the workers of Leggett and Platt, Inc., Hanover Township, Pennsylvania.

The petitioners requested that the petition be withdrawn. Consequently, the investigation has been terminated.

Signed at Washington, DC, this 27th day of March 2009.
Richard Church,
Certifying Officer, Division of Trade Adjustment Assistance.

[FR Doc. E9-10222 Filed 5-4-09; 8:45 am]

BILLING CODE 4510-FN-P